DEPARTMENT OF HEALTH AND HUMAN SERVICES

Health Resources and Services Administration

Agency Information Collection Activities; Submission to OMB for Review and Approval; Public Comment Request

ACTION: Notice.

SUMMARY: In compliance with Section 3506(c)(2)(A) of the Paperwork Reduction Act of 1995 (44 U.S.C. chapter 35), the Health Resources and Services Administration (HRSA) will submit an Information Collection Request (ICR) to the Office of Management and Budget (OMB). Comments submitted during the first public review of this ICR will be provided to OMB. OMB will accept further comments from the public during the review and approval period. To request a copy of the clearance requests submitted to OMB for review, email paperwork@hrsa.gov or call the HRSA Information Collection Clearance Officer at (301) 443-1984.

Information Collection Request Title: Patient Survey—Health Centers (OMB No. 0915-xxxx)—[NEW]

Abstract: The Health Center program supports Community Health Centers (CHCs), Migrant Health Centers (MHCs), Health Care for the Homeless (HCH) programs, and Public Housing Primary Care (PHPC) programs. Health Centers (HCs) receive grants from HRSA to provide primary and preventive health care services to medically underserved populations. The proposed Patient Survey will collect information about HC patients, regarding their health status, the reasons for seeking care at HCs, their health-related diagnoses, health services they obtain at HCs and from other healthcare settings, the quality of those services received, and their satisfaction with the care they received. This information will be collected through in-person interviews from a nationally representative sample of HC patients. Prior to the deployment of the national study, a cognitive pre-test will be conducted to refine and test the face validity and internal validity of questions in the survey instrument in different languages, and test the survey sampling methodologies and procedures. The pre-test will include cognitive interviews to ensure that the questions are being understood as were intended. Interviews conducted in the pre-test and the national study are estimated to take approximately up to 1 hour and 15 minutes each.

The Patient Survey builds on previous periodic Patient User-Visit Surveys, which were conducted to learn about the process and outcomes of care in CHCs, MHCs, HCHs, and PHPCs. The original questionnaires were derived from the National Health Interview Survey (NHIS) and the National Ambulatory Medical Care Survey (NAMCS) conducted by the National Center for Health Statistics (NCHS). Conformance with the NHIS and NAMCS allowed comparisons between these NCHS surveys and the previous User-Visit Surveys. The new Patient Survey was developed using a questionnaire methodology similar to that used in the past, and will also potentially allow some time-trend comparisons for HCs with the previous User-Visit survey data, including monitoring of processes and outcomes over time. In addition, this wave of the survey will be conducted in languages not used in previous surveys (English and Spanish only), and will include patients from the fastest growing U.S. population segment, Asian Americans and Pacific Islanders. Languages that will be used in the proposed survey include Chinese (Mandarin and Cantonese), Korean, Vietnamese, Spanish, and English. With the exception of Spanish speakers, other racial and ethnic subgroups were not able to participate in previous surveys in their own languages.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

The annual estimate of burden is as follows:

Form name | Number of respondents | Responses per respondent | Total responses | Average burden per response (in hours) | Total burden hours
Grantee/Site Recruitment | 2 | 3 | 6 | 3.0 | 18.00
Patient Recruitment (At clinic) | 21 | 1 | 21 | 0.17 | 3.57
Patient Survey (Administered at clinic) | 15 | 1 | 15 | 1.25 | 18.75
Patient Recruitment (Through local advertisements/flyers/word-of-mouth) | 71 | 1 | 71 | 0.08 | 5.68
Patient Survey (Administered following local advertising) | 54 | 1 | 54 | 1.25 | 67.50
Total Pretest | 69 |  |  |  | 113.50

ADDRESSES: Submit your comments to the desk officer for HRSA, either by email to OIRA_submission@omb.eop.gov or by fax to 202-395-5806. Please direct all correspondence to the “attention of the desk officer for HRSA.”

Deadline: Comments on this ICR should be received within 30 days of this notice.

Dated: May 3, 2013.
Bahar Niakan,
Director, Division of Policy and Information Coordination.

[FR Doc. 2013-11088 Filed 5-8-13; 8:45 am]

BILLING CODE 4165-15-P